DEPARTMENT OF HEALTH AND HUMAN SERVICES

Administration for Children and Families

Tribal Consultation Meeting

AGENCY: Office of Head Start (OHS), Administration for Children and Families, HHS.

ACTION: Notice of meeting.

SUMMARY: Pursuant to the Improving Head Start for School Readiness Act of 2007, Public Law 110-134, notice is hereby given of one 1-day Tribal Consultation Session to be held between the Department of Health and Human Services, Administration for Children and Families, Office of Head Start leadership and the leadership of Tribal Governments operating Head Start (including Early Head Start) programs. The purpose of this Consultation Session is to discuss ways to better meet the needs of American Indian and Alaska Native children and their families, taking into consideration funding allocations, distribution formulas, and other issues affecting the delivery of Head Start services in their geographic locations [42 U.S.C. 9835, Section 640(l)(4)].

DATES: March 16, 2015, from 1:00 p.m. to 5:00 p.m.

Location: Southwest Consortium of Indian Head Start, Native American Child and Family Conference, Hotel Albuquerque at Old Town, 800 Rio Grande Boulevard Northwest, Albuquerque, New Mexico 87104.

FOR FURTHER INFORMATION CONTACT: Robert Bialas, Regional Program Manager, Region XI, Office of Head Start, email Robert.Bialas@acf.hhs.gov or phone (202) 205-9497. Additional information and online meeting registration is available at http://eclkc.ohs.acf.hhs.gov/hslc/hs/calendar/tc2015.

SUPPLEMENTARY INFORMATION: The Department of Health and Human Services (HHS) announces an Office of Head Start (OHS) Tribal Consultation for leaders of Tribal Governments operating Head Start and Early Head Start programs.

The agenda for the scheduled OHS Tribal Consultation in Albuquerque, New Mexico, will be organized around the statutory purposes of Head Start Tribal Consultations related to meeting the needs of American Indian/Alaska Native children and families, taking into consideration funding allocations, distribution formulas, and other issues affecting the delivery of Head Start services in their geographic locations. In addition, OHS will share actions taken and in progress to address the issues and concerns raised in 2014 OHS Tribal Consultations.

The Consultation Session will be conducted with elected or appointed leaders of Tribal Governments and their designated representatives [42 U.S.C. 9835, Section 640(l)(4)(A)]. Designees must have a letter from the Tribal Government authorizing them to represent the tribe prior to the Consultation Session. Other representatives of tribal organizations and Native nonprofit organizations are welcome to attend as observers.

A detailed report of the Consultation Session will be prepared and made available within 45 days of the Consultation Session to all Tribal Governments receiving funds for Head Start and Early Head Start programs. Tribes wishing to submit written testimony for the report should send testimony to Robert Bialas at Robert.Bialas@acf.hhs.gov either prior to the Consultation Session or within 30 days after the meeting.

Oral testimony and comments from the Consultation Session will be summarized in each report without attribution, along with topics of concern and recommendations. OHS has sent hotel and logistical information for the New Mexico Consultation Session to tribal leaders via email and posted information on the Early Childhood Learning and Knowledge Center Web site at http://eclkc.ohs.acf.hhs.gov/hslc/hs/calendar/tc2015.

Dated: February 6, 2015.
Linda K. Smith,
Deputy Assistant Secretary, Early Childhood Development.

[FR Doc. 2015-02859 Filed 2-10-15; 8:45 am]

BILLING CODE 4184-01-P